FEDERAL COMMUNICATIONS COMMISSION

47 CFR Part 1

[ET Docket No. 04-295; FCC 06-56]

Communications Assistance for Law Enforcement Act and Broadband Access and Services

AGENCY: Federal Communications Commission.

ACTION: Final rule, announcement of effective date.

SUMMARY: The Federal Communications Commission (FCC) received Office of Management and Budget (OMB) approval on December 12, 2006 for new public information collection requirements contained in the FCC's Communications Assistance for Law Enforcement Act and Broadband Access and Services, Second Report and Order and Memorandum Opinion and Order (CALEA Second Report and Order) in 71 FR 38091, July 5, 2006, OMB Control Number 3060-0809, pursuant to the requirements of the Paperwork Reduction Act of 1995, Public Law 104-13. An agency may not conduct or sponsor and a person is not required to respond to a collection of information unless it displays a currently valid control number.

DATES: The rules for §§ 1.20004 and 1.20005 published at 71 FR 38091, July 5, 2006, are effective December 12, 2006.

FOR FURTHER INFORMATION CONTACT: Thomas J. Beers, Public Safety and Homeland Security Bureau, Policy Division, 445 12th Street, SW., Washington, DC 20554, at (202) 418-0952.

For additional information concerning the Paperwork Reduction Act information collection requirements, contact Judith B. Herman at (202) 418-0124, or via the Internet at Judith-B.Herman@fcc.gov.

SUPPLEMENTARY INFORMATION: The CALEA Second Report and Order noted that the effective date for the new CALEA information collection requirements was subject to Office of Management and Budget (OMB) approval. OMB granted its approval on December 12, 2006. Accordingly, (1) an attesting letter for pending CALEA section 107(c)(1) petitions currently on file with the FCC must be filed by February 12, 2007; (2) compliance monitoring reports (FCC Form 445) must be filed by February 12, 2007; (3) system security and integrity (SSI) plans for providers of facilities-based broadband internet access and interconnected Voice over Internet Protocol (VoIP) services must be filed by March 12, 2007.¹

¹ Communications Assistance for Law Enforcement Act and Broadband Access and Services, ET Docket No. 04-295, Public Notice DA O6-2511, Public Notice DA 06-2512, and Public Notice DA 06-2513.

Compliance with new CALEA section 107(c) and 109(b) petition filing requirements ² became effective upon OMB authorization, i.e., December 12, 2006.

² See Communications Assistance for Law Enforcement Act and Broadband Access and Services, ET Docket No. 04-295, Second Report and Order and Memorandum Opinion and Order, 21 FCC Rcd 5360 (2006), Appendices E and F.

CALEA requires the FCC to create rules that regulate the conduct and recordkeeping of lawful electronic surveillance. On May 12, 2006, the FCC released its CALEA Second Report and Order which became effective August 4, 2006, except for certain information collections which required OMB approval under the Paperwork Reduction Act before the FCC could enforce them. Now that OMB approval has been granted:

(a) Each provider that has a CALEA section 107(c)(1) extension petition currently on file must submit to the FCC an attesting letter documenting that the provider's equipment, facility or service continues to qualify for compliance extension relief, given that CALEA section 107(c)(1) applies only to equipment, facilities, or services installed or deployed prior to October 25, 1998.

(b) Facilities-based broadband Internet access and interconnected VoIP service providers must file system security and integrity (SSI) plans under the Commission's rules. SSI plans are currently approved under the existing OMB 3060-0809 information collection.³

³ See 65 FR 8666 (2000).

(c) All providers of facilities-based broadband Internet access or interconnected VoIP services must file monitoring reports on FCC Form 445, “CALEA Monitoring Report for Broadband and VoIP Services,” with the FCC to ensure timely CALEA compliance.

(d) There are new requirements governing petitions filed under section 107(c)(1), which request additional time to comply with CALEA; these provisions apply to all providers subject to CALEA and are voluntary filings.

(e) There are modified requirements governing petitions filed under section 109(b) request for reimbursement of CALEA; these provisions apply to all providers subject to CALEA and are voluntary filings.

Federal Communications Commission.
William F. Caton,
Deputy Secretary.

[FR Doc. E6-22155 Filed 12-26-06; 8:45 am]

BILLING CODE 6712-01-P